DEPARTMENT OF JUSTICE

Antitrust Division

Notice Pursuant to the National Cooperative Research and Production Act of 1993—United Technologies Research Center

Notice is hereby given that, on April 11, 2000, pursuant to section 6(a) of the National Cooperative Research and Production Act of 1993, 15 U.S.C. 4301 et seq. (“the Act”), United Technologies Corporation has filed written notifications simultaneously with the Attorney General and the Federal Trade Commission disclosing changes in its membership status. The notifications were filed for the purpose of extending the Act's provisions limiting the recovery of antitrust plaintiffs to actual damages under specified circumstances. Specifically, Tyco Printed Circuit Group, Inc., Stafford Springs, CT; and Ford Motor Company, Dearborn, MI have been dropped as parties to this venture.

No other changes have been made in either the membership or planned activity of the group research project. Membership in this group research project remains open, and United Technologies Corporation intends to file additional written notification disclosing all changes in membership.

On March 11, 1999, United Technologies Corporation filed its original notification pursuant to section 6(a) of the Act. The Department of Justice published a notice in the Federal Register pursuant to section 6(b) of the Act on May 20, 1999 (64 FR 27604).

Constance K. Robinson,
Director of Operations, Antitrust Division.

[FR Doc. 01-4703 Filed 2-26-01; 8:45 am]

BILLING CODE 4410-11-M